DEPARTMENT OF HEALTH AND HUMAN SERVICES

45 CFR Part 98

[Docket No. ACF-2013-0001-0001]

RIN 0970-AC53

Child Care and Development Fund (CCDF) Program

AGENCY: Office of Child Care (OCC), Administration for Children and Families (ACF), Department of Health and Human Services (HHS).

ACTION: Notice of proposed rulemaking; withdrawal.

SUMMARY: The Office of Child Care (OCC) in the Administration for Children and Families (ACF) within the Department of Health and Human Services (HHS) is withdrawing a previously published notice of proposed rulemaking that solicited public comment on reforms to the Child Care and Development Fund (CCDF) program.

DATES: The notice of proposed rulemaking published at 78 FR 29442, May 20, 2013, is withdrawn, effective immediately.

FOR FURTHER INFORMATION CONTACT: Andrew Williams, Director, Office of Child Care Policy Division, Administration for Children and Families, 370 L'Enfant Promenade SW., Washington, DC 20447; 202-401-4795 (this is not a toll-free number).

SUPPLEMENTARY INFORMATION: On May 20, 2013, HHS published a notice of proposed rulemaking (NPRM) to the regulations at 45 CFR part 98 for the Child Care and Development Fund (CCDF) program at 78 FR 29442. Subsequently, the Child Care and Development Block Grant Act, which governs the CCDF program, was reauthorized in November 2014 (Public Law 113-186). In light of this statutory change, HHS is hereby withdrawing the May 2013 NPRM, and will begin a new regulatory process with a proposed rule based on the new law.

Dated: April 9, 2015.
Mark H. Greenberg,
Acting Assistant Secretary for Children and Families.
Approved: April 27, 2015.
Sylvia Matthews Burwell,
Secretary.

[FR Doc. 2015-10351 Filed 5-1-15; 8:45 am]

BILLING CODE 4184-01-P